NATIONAL AERONAUTICS AND SPACE ADMINISTRATION

[Notice (01-139)]

NASA Advisory Council, Biological and Physical Research Advisory Committee Audio Teleconference

AGENCY: National Aeronautics and Space Administration.

ACTION: Notice of meeting.

SUMMARY: In accordance with the Federal Advisory Committee Act, Pub. L. 92-463, as amended, the National Aeronautics and Space Administration announces a meeting of the NASA Advisory Council, Biological and Physical Research Advisory Committee.

DATES: Thursday, November 29, 2001, from 11 am until 2 pm.

ADDRESSES: This meeting will be conducted via teleconference; hence participation will require contacting Dr. Bradley Carpenter (202/358-0826) before 4:30 pm Eastern, November 28, 2001, and leaving your name, affiliation, and phone number.

FOR FURTHER INFORMATION CONTACT: Dr. Bradley Carpenter, Code UG, National Aeronautics and Space Administration, Washington, DC 20546, 202/358-0826.

SUPPLEMENTARY INFORMATION: The meeting will be open to the public up to the capability of the teleconferencing system. The agenda for the meeting is as follows:

—International Space Station Status.

—GPRA Performance Review.

It is imperative that the meeting be held on this date to accommodate the scheduling priorities of the key participants. Visitors will be requested to sign a visitor's register.

Beth M. McCormick,
Advisory Committee Management Officer, National Aeronautics and Space Administration.

[FR Doc. 01-27908 Filed 11-6-01; 8:45 am]

BILLING CODE 7510-01-P